ENVIRONMENTAL PROTECTION AGENCY

40 CFR Part 52

[EPA-R07-OAR-2017-0513; FRL-9971-68—Region 7]

Approval of Missouri Air Quality Implementation Plans; Infrastructure SIP Requirements for the 2012 Annual Fine Particulate Matter (PM2.5) National Ambient Air Quality Standard; Withdrawal of Direct Final Rule

AGENCY: Environmental Protection Agency (EPA).

ACTION: Withdrawal of direct final rule.

SUMMARY: Due to adverse comments, the Environmental Protection Agency (EPA) is withdrawing the direct final rule for “Approval of Missouri Air Quality Implementation Plans; Infrastructure SIP Requirements for the 2012 Annual Fine Particulate Matter (PM2.5) National Ambient Air Quality Standard” published in the Federal Register on October 11, 2017. Section 110 of the CAA requires that each state adopt and submit a SIP for the implementation, maintenance, and enforcement of each new or revised NAAQS promulgated by EPA. These SIPs are commonly referred to as “infrastructure” SIPs. The infrastructure requirements are designed to ensure that the structural components of each state's air quality management program are adequate to meet the state's responsibilities under the CAA.

DATES: The direct final rule published at 82 FR 47147 on October 11, 2017 is withdrawn effective December 8, 2017.

FOR FURTHER INFORMATION CONTACT: Tracey Casburn, Environmental Protection Agency, Air Planning and Development Branch, 11201 Renner Boulevard, Lenexa, Kansas 66219 at (913) 551-7016, or by email at casburn.tracey@epa.gov.

SUPPLEMENTARY INFORMATION: Due to adverse comments, EPA is withdrawing the direct final rule to approve the states “infrastructure” SIP revision for the 2012 PM2.5 NAAQS. In the direct final rule published on October 11, 2017, (82 FR 47147), EPA stated that if it received adverse comment by November 13, 2017, the rule would be withdrawn and not take effect. The direct final rule was an approval of a State Implementation Plan (SIP) revision from the State of Missouri for the 2012 PM2.5 National Ambient Air Quality Standard (NAAQS). The direct final approval action also included the approval of Missouri State Statue section 105.483(5) RSMo 2014, and Missouri State Statue section 105.485 RSMo 2014 into the SIP. These two statutes address aspects of the infrastructure requirements relating to conflicts of interest as found in section 128 of the CAA. EPA received adverse comments. EPA will address the comments in a subsequent final action based upon the proposed action also published on October 11, 2017, at 82 FR 47169. EPA will not institute a second comment period on this action.

List of Subjects in 40 CFR Part 52

Environmental protection, Air pollution control, Incorporation by reference, Intergovernmental relations, Nitrogen dioxide, Particulate matter, Reporting and recordkeeping requirements, Sulfur dioxides.

Dated: November 21, 2017.
James B. Gulliford,
Regional Administrator, Region 7.

Accordingly, the amendments to 40 CFR 52.1320 published on October 11, 2017 (82 FR 47147) are withdrawn effective December 8, 2017.

[FR Doc. 2017-26406 Filed 12-7-17; 8:45 am]

BILLING CODE 6560-50-P